DEPARTMENT OF TRANSPORTATION

Federal Aviation Administration

14 CFR Part 39

[Docket No. 2002-NM-231-AD; Amendment 39-13419; AD 2004-01-05]

RIN 2120-AA64

Airworthiness Directives; Dassault Model Falcon 2000 and 900EX, and Dassault Model Mystere-Falcon 900 Series Airplanes

AGENCY: Federal Aviation Administration, DOT.

ACTION: Final rule.

SUMMARY: This amendment adopts a new airworthiness directive (AD), applicable to certain Dassault Model Falcon 2000 and 900EX, and Dassault Model Mystere-Falcon 900 series airplanes. This AD requires measuring the paint thickness on the upper and lower surfaces of the left and right sides of the horizontal stabilizer, performing corrective actions if necessary, and installing maintenance caution placards on the upper surface of the left and right sides of the horizontal stabilizer. This action is necessary to prevent structural damage to the horizontal stabilizer after a direct lightning strike, which could result in reduced controllability of the airplane. This action is intended to address the identified unsafe condition.

DATES: Effective February 13, 2004.

The incorporation by reference of certain publications listed in the regulations is approved by the Director of the Federal Register as of February 13, 2004.

ADDRESSES: The service information referenced in this AD may be obtained from Dassault Falcon Jet, P.O. Box 2000, South Hackensack, New Jersey 07606. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION: A proposal to amend part 39 of the Federal Aviation Regulations (14 CFR part 39) to include an airworthiness directive (AD) that is applicable to certain Dassault Model Falcon 2000 and 900EX, and Dassault Model Mystere-Falcon 900 series airplanes, was published in the Federal Register on November 13, 2003 (68 FR 64286). That action proposed to require measuring the paint thickness on the upper and lower surfaces of the left and right sides of the horizontal stabilizer, performing corrective actions if necessary, and installing maintenance caution placards on the upper surface of the left and right sides of the horizontal stabilizer.

Comments

Interested persons have been afforded an opportunity to participate in the making of this amendment. No comments were submitted in response to the proposal or the FAA's determination of the cost to the public.

Conclusion

After careful review of the available data, the FAA has determined that air safety and the public interest require the adoption of the rule as proposed.

Cost Impact

We estimate that 29 airplanes of U.S. registry will be affected by this AD.

It will take approximately 16 work hours per airplane to measure the paint thickness, at an average labor rate of $65 per work hour. Based on these figures, the cost impact on U.S. operators for measuring the paint thickness is estimated to be $30,160, or $1,040 per airplane.

It will take approximately 3 work hours per airplane, at an average labor rate of $65 per work hour, to install the placards. Required parts will be provided to operators at no cost. Based on these figures, the cost impact on U.S. operators for the installation of the placards is estimated to be $5,655, or $195 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-01-05 Dassault Aviation: Amendment 39-13419. Docket 2002-NM-231-AD.

Applicability: Model Mystere-Falcon 900 series airplanes, as listed in Dassault Service Bulletin F900-291, dated February 20, 2002; Model Falcon 900EX series airplanes, as listed in Dassault Service Bulletin F900EX-155, dated February 20, 2002; and Model Falcon 2000 series airplanes, as listed in Dassault Service Bulletin F2000-234, dated February 20, 2002; certificated in any category.

Compliance: Required as indicated, unless accomplished previously.

To prevent structural damage to the horizontal stabilizer after a direct lightning strike, which could result in reduced controllability of the airplane, accomplish the following:

Measurement of Paint Thickness and Corrective Actions

(a) Within 7 months after the effective date of this AD: Measure the thickness of the paint on the upper and lower surfaces of the left and right sides of the horizontal stabilizer in accordance with all of the actions specified in paragraphs 2.A. through 2.D. of the Accomplishment Instructions of Dassault Service Bulletin F900-291, dated February 20, 2002; Dassault Service Bulletin F900EX-155, dated February 20, 2002; or Dassault Service Bulletin F2000-234, dated February 20, 2002; as applicable. Any necessary corrective action must be done before further flight in accordance with the applicable service bulletin.

Installation of Placards

(b) After accomplishing the actions required by paragraph (a) of this AD, before further flight, install placards on the upper surface of the left and right sides of the horizontal stabilizer in accordance with paragraph 2.E. of the Accomplishment Instructions of Dassault Service Bulletin F900-291, dated February 20, 2002; Dassault Service Bulletin F900EX-155, dated February 20, 2002; or Dassault Service Bulletin F2000-234, dated February 20, 2002; as applicable.

Alternative Methods of Compliance

(c) In accordance with 14 CFR 39.19, the Manager, International Branch, ANM-116, FAA, Transport Airplane Directorate, is authorized to approve alternative methods of compliance for this AD.

Incorporation by Reference

(d) The actions shall be done in accordance with Dassault Service Bulletin F900-291, dated February 20, 2002; Dassault Service Bulletin F900EX-155, dated February 20, 2002; or Dassault Service Bulletin F2000-234, dated February 20, 2002; as applicable. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 1: The subject of this AD is addressed in French airworthiness directive 2002-089(B), dated March 2, 2002.

Effective Date

(e) This amendment becomes effective on February 13, 2004.

Issued in Renton, Washington, on December 29, 2003.
Ali Bahrami,
Acting Manager, Transport Airplane Directorate, Aircraft Certification Service.

[FR Doc. 04-126 Filed 1-8-04; 8:45 am]

BILLING CODE 4910-13-P